Title 3—

The President

Proclamation 9142 of June 13, 2014

Father's Day, 2014

By the President of the United States of America

A Proclamation

Fatherhood is among the most difficult and rewarding jobs a man can have. It demands constant attention, frequent sacrifice, and a healthy dose of patience. Even in a time when technology allows us to connect instantly with almost anyone on earth, there is no substitute for a father's presence, care, and support. On Father's Day, we show our gratitude to the men who show us how to learn, grow, and live.

With encouragement and unconditional love, fathers guide their children and help them envision brighter futures. They are teachers and coaches, friends and role models. They instill values like hard work and integrity, and teach their kids to take responsibility for themselves and those around them. This is a task for every father—whether married or single, gay or straight, natural or adoptive—and every child deserves someone who will step up and fill this role. My Administration proudly supports dads who are not only present but also involved, who meet their commitments to their sons and daughters, even if their own fathers did not.

Today, let us reflect on our fathers' essential contributions to our lives, our society, and our Nation. Let us thank the men who understand there is nothing more important than being the best fathers they can be.

NOW, THEREFORE, I, BARACK OBAMA, President of the United States of America, in accordance with a joint resolution of the Congress approved April 24, 1972, as amended (36 U.S.C. 109), do hereby proclaim June 15, 2014, as Father's Day. I direct the appropriate officials of the Government to display the flag of the United States on all Government buildings on this day, and I call upon all citizens to observe this day with appropriate programs, ceremonies, and activities.

IN WITNESS WHEREOF, I have hereunto set my hand this thirteenth day of June, in the year of our Lord two thousand fourteen, and of the Independence of the United States of America the two hundred and thirty-eighth.

[FR Doc. 2014-14428

Filed 6-17-14; 11:15 am]

Billing code 3295-F4